DEPARTMENT OF THE INTERIOR

U.S. Geological Survey

Agency Information Collection Activities: Submitted for Office of Management and Budget (OMB) Review; Comment Request

AGENCY: U.S. Geological Survey (USGS), Interior.

ACTION: Notice of an extension of an information collection (1028-0068).

SUMMARY: To comply with the Paperwork Reduction Act of 1995 (PRA), we are notifying the public that we have submitted to OMB an information collection request (ICR) to renew approval of the paperwork requirements for “Ferrous Metals Surveys, (13 USGS forms)”. This notice also provides the public a second opportunity to comment on the paperwork burden of this form.

DATES: Submit written comments by February 1, 2008.

ADDRESSES: You may submit comments on this information collection directly to the Office of Management and Budget (OMB), Office of Information and Regulatory Affairs, Attention: Desk Officer for the Department of the Interior via OMB e-mail: (OIRA_DOCKET@omb.eop.gov); or by fax: (202) 395-6566; and identify your submission with #1028-0068.

Please submit a copy of your comments to the Department of the Interior, USGS, via:

• E-mail: atravnic@usgs.gov. Use Information Collection Number 1028-0068 in the subject line.

• Fax: (703) 648-7069. Use Information Collection Number 1028-0068 in the subject line.

• Mail or hand-carry comments to the Department of the Interior; USGS Clearance Officer, U.S. Geological Survey, 807 National Center, Reston, VA 20192. Please reference Information Collection 1028-0068 in your comments.

FOR FURTHER INFORMATION CONTACT: Scott F. Sibley at (703) 648-4976. Copies of the full Information Collection Request and the forms can be obtained at no cost at http://www.reginfor.gov or by contacting the USGS clearance officer at the phone number listed below.

SUPPLEMENTARY INFORMATION: Title: Ferrous Metals Surveys.

OMB Control Number: 1028-0068.

Form Number: Various (13 forms).

Abstract: Respondents to this form supply the U.S. Geological Survey with domestic consumption data of 12 metals and ferroalloys, some of which are considered strategic and critical. This information will be published as chapters in Minerals Yearbooks, monthly Mineral Industry Surveys, annual Mineral Commodity Summaries, and special publications, for use by Government agencies, industry, education programs, and the general public.

We will protect information from respondents considered proprietary under the Freedom of Information Act (5 U.S.C. 552) and its implementing regulations (43 CFR part 2), and under regulations at 30 CFR 250.197, “Data and information to be made available to the public or for limited inspection.” Responses are voluntary. No questions of a “sensitive” nature are asked. We intend to release data collected on these forms only in a summary format that is not company-specific.[?USGPO Galley End:?]

Frequency: Monthly and Annually.

Estimated Number and Description of Respondents: Approximately 1,307 consumers of ferrous and related metals. Respondents are canvasses for one frequency period (e.g., monthly respondents are not canvasses annually).

Estimated Number of Responses: 2,979.

Annual burden hours: 1,614.

Estimated Annual Reporting and Recordkeeping “Hour” Burden: The currently approved “hour” burden for these forms is 1,614 hours. We estimated the public reporting burden averages 10 minutes to 1 hour per response. This includes the time for reviewing instructions, gathering and maintaining data, and completing and reviewing the information.

Estimated Reporting and Recordkeeping “Non-Hour Cost” Burden: We have not identified any “non-hour cost” burdens associated with this collection of information.

Public Disclosure Statement: The PRA (44 U.S.C. 3501, et seq.) provides that an agency may not conduct or sponsor, and you are not required to respond to, a collection of information unless it displays a currently valid OMB control number. Until OMB approves a collection of information, you are not obligated to respond.

Comments: Before submitting an ICR to OMB, PRA section 3506(c)(2)(A) (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of ion formation; (c) enhance the quality, usefulness, and clarity of the information to be collected; and (d) minimize the burden on the respondents, including the use automated collection techniques or other forms of information technology.

To comply with the public consultation process, on September 28, 2007, we published a Federal Register notice (72 FR 55242) announcing that we would submit this ICR to OMB for approval. The notice provided the required 60-day public comment period. We have received no comments in response to the notice.

USGS Information Collection Clearance Officer: Alfred Travnicek, 70-3-648-7231.

Dated: December 7, 2007.
John H. DeYoung, Jr.,
Chief Scientist, Minerals Information Team.

[FR Doc. 07-6258 Filed 12-31-07; 8:45 am]

BILLING CODE 4311-AM-M